DEPARTMENT OF AGRICULTURE

Rural Utilities Service

Rural Broadband Access Loans and Loan Guarantees Program

AGENCY: Rural Utilities Service, USDA.

ACTION: Notice of solicitation of applications (NOSA).

SUMMARY: The Rural Utilities Service (RUS), an agency of the United States Department of Agriculture (USDA), announces that it is accepting applications for fiscal year (FY) 2015 for the Rural Broadband Access Loan and Loan Guarantee program (the Broadband Program). RUS has published on its Web site http://www.rd.usda.gov/newsroom/notices-solicitation-applications-nosas the amount of funding received through the final appropriations act.

In addition to announcing the application window, RUS announces the minimum and maximum amounts for broadband loans for FY 2015. Moreover, the Agency is concurrently publishing a proposed interim final rule that will revise the current Broadband Program regulations at 7 CFR part 1738, as necessitated by Pubic Law 113-79, the Agricultural Act of 2014 (2014 Farm Bill).

DATES: Applications under this NOSA will be accepted immediately, July 30, 2015 through September 30, 2015, subject to the requirements of the interim regulation published concurrently with this NOSA.

ADDRESSES: Applications should be submitted to the RUS General Field Representative or to U.S. Department of Agriculture, Rural Utilities Service, Loan Originations and Approval Division, ATTN: Shawn Arner, STOP 1597, Room 2808-S, 1400 Independence Ave. SW., Washington, DC 20250-1597, as provided in the application guide found online at http://www.rd.usda.gov/programs-services/farm-bill-broadband-loans-loan-guarantees.

FOR FURTHER INFORMATION CONTACT: For further information contact Shawn Arner, Deputy Assistant Administrator, Loan Originations and Approval Division, Rural Utilities Service, STOP 1597, 1400 Independence Avenue SW., Washington, DC 20250-1597, Telephone (202) 720-0800.

SUPPLEMENTARY INFORMATION:

General Information

The Rural Broadband Access Loan and Loan Guarantee Program (the Broadband Program) is authorized by the Rural Electrification Act (7 U.S.C. 901 et seq.), as amended by the 2014 Farm Bill.

During FY 2015, loans will be made available for the construction, improvement, and acquisition of facilities and equipment to provide service at the broadband lending speed for eligible rural areas. Applications must be submitted in accordance with the interim final rule published concurrently with this NOSA.

To assist in the preparation of applications, the application guide is available online at: http://www.rd.usda.gov/programs-services/farm-bill-broadband-loans-loan-guarantees. Application guides may also be requested from RUS by contacting the agency contact.

Application requirements and Addresses: All requirements and addresses for submission of an application under the Broadband Program will be set forth in the interim regulation published concurrently with this NOSA.

Application Materials: Applications for the Broadband Program will be available at http://www.rd.usda.gov/programs-services/farm-bill-broadband-loans-loan-guarantees.

Minimum and Maximum Loan Amounts

Loans under this authority will not be made for less than $100,000. The maximum loan amount that will be considered for FY 2015 is $20,000,000.

Required Definitions for Broadband Program Regulation

The interim regulation for the Broadband Program requires that certain definitions affecting eligibility be revised and published from time to time by the agency in the Federal Register. For the purposes of this interim regulation, the agency shall use the following definitions: Broadband Service and Broadband Lending Speed. Until otherwise revised in the Federal Register, for applications in FY 2015, to qualify as broadband service, the minimum rate-of-data transmission shall be four megabits downstream and one megabit upstream for both fixed and mobile broadband service and the broadband lending speed will be a minimum bandwidth of ten megabits downstream and one megabit upstream for both fixed and mobile service to the customer.

Priority for Approving Loan Applications

Applications for FY 2015 will be accepted from July 30, 2015 through September 30, 2015. Although review of applications will start when they are submitted, all applications submitted by September 30, 2015 will be evaluated and ranked on the basis of the number of unserved households in the proposed funded service area. Subject to available funding, eligible applications that propose to serve the most unserved households will receive funding offers before other eligible applications that have been submitted.

Applications will not be accepted after September 30, 2015, until a new funding window has been opened with the publication of an additional NOSA in the Federal Register.

Paperwork Reduction Act

In accordance with the Paperwork Reduction Act of 1995, the information collection requirements associated with Broadband loans, as covered in this NOSA, have been approved by the Office of Management and Budget (OMB) under OMB Control Number 0572-0130.

Dated: July 8, 2015.
Brandon McBride,
Administrator, Rural Utilities Service.

[FR Doc. 2015-18623 Filed 7-29-15; 8:45 am]

BILLING CODE P